THE NATIONAL FOUNDATION FOR THE ARTS AND THE HUMANITIES

Submission for OMB Review, Comment Request, Proposed Collection: Let's Move Museums, Let's Move Gardens

AGENCY: Institute of Museum and Library Services, The National Foundation for The Arts snd The Humanities.

ACTION: Submission for OMB review, comment request.

SUMMARY: The Institute of Museum and Library Services announces that the following information collection has been submitted to the Office of Management and Budget (OMB) for review and approval in accordance with the Paperwork Reduction Act (44 U.S.C. chapter 35). This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the FOR FURTHER INFORMATION CONTACT section below on or before April 16, 2012.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Mamie Bittner, Institute of Museum and Library Services, 1800 M Street NW., 9th Floor, Washington, DC 20036. Telephone: 202/653-4630. Email: mbittner@imls.gov or by or by teletype (TTY/TDD) for persons with hearing difficulty at 202/653-4614.

SUPPLEMENTARY INFORMATION: The Institute of Museum and Library Services is the primary source of federal support for the Nation's 123,000 libraries and 17,500 museums. The Institute's mission is to create strong libraries and museums that connect people to information and ideas. The Institute works at the national level and in coordination with state and local organizations to sustain heritage, culture, and knowledge; enhance learning and innovation; and support professional development. IMLS conducts policy research, analysis, and data collection to extend and improve the Nation's museum, library, and information services. The policy research, analysis, and data collection is used to: Identify national needs for and trends in museum, library, and information services; measure and report on the impact and effectiveness of museum, library, and information services throughout the United States; identify best practices; and develop plans to improve museum, library, and information services of the United States and strengthen national, State, local, regional, and international communications and cooperative networks. (20 U.S.C. chapter 72, 20 U.S.C. § 9108).

Abstract: The Call for Participation for Let's Move Museums, Let's Move Gardens will collect information museums programs, exhibitions and food service that are targeted at fighting childhood obesity. The information will be used to provide accountability and to share best practices in public health programs.

Current Actions: This notice proposes clearance of the Let's Move Museums, Let's Move Gardens collection. The 60-day notice for the Let's Move Museums, Let's Move Gardens collection was published in the Federal Register on November 16, 2011 (FR vol. 76, No. 221, pg. 71080). No comments were received.

Agency: Institute of Museum and Library Services.

Title: Let's Move Museums, Let's Move Gardens.

OMB Number: TBD.

Agency Number: 3137.

Frequency: Annual.

Affected Public: Museums, state, local, tribal government and not-for-profit institutions.

Number of Respondents: 2,000.

Estimated Time per Respondent: .17.

Total Annual Costs to Respondents: $6,069.

Total Annualized to Federal Government: $55,120.

FOR FURTHER INFORMATION CONTACT: Comments should be sent to Office of Information and Regulatory Affairs, Attn.: OMB Desk Officer for Education, Office of Management and Budget, Room 10235, Washington, DC 20503, 202/395-7316.

Dated: March 15, 2012.
Kim Miller,
Management Analyst.

[FR Doc. 2012-6741 Filed 3-20-12; 8:45 am]

BILLING CODE 7036-01-P